DEPARTMENT OF ENERGY

Federal Energy Regulatory Commission

[Docket No. EL14-67-000]

Alliance for Retail Energy Markets; Shell Energy North America (US), L.P.; (Complainants) v. California Independent System Operator Corporation (Respondent); Notice of Complaint

Take notice that on June 16, 2014, pursuant to section 306 of Federal Power Act, 16 U.S.C. 825(e) (2012), and Rule 206 of the Rules of Practice and Procedure of the Federal Energy Regulatory Commission (Commission), 18 CFR 385.206 (2013), the Alliance for Retail Energy Markets (AReM) and Shell Energy North America (US), L.P. (SENA) (collectively, the Coalition) filed a formal complaint against California Independent System Operator Corporation (CAISO) requesting that the Commission find that certain charges that are characterized as “refunds”, which CAISO intends to charge the Coalition and similarly situated entities, are illegal retroactive rate increases/surcharges and require CAISO to cease and desist from attempting to charge them. The Coalition requests that the Commission investigate the process by which the refunds have been calculated and require CAISO to respond to disputes that have been properly raised.

The Complainants state that copies of the complaint were served on the representatives of the Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on July 7, 2014.

Dated: June 17, 2014.
Kimberly D. Bose,
Secretary.

[FR Doc. 2014-14843 Filed 6-24-14; 8:45 am]

BILLING CODE 6717-01-P